FEDERAL COMMUNICATIONS COMMISSION

Sunshine Act Meeting; Open Commission Meeting; Thursday, March 3, 2011

February 24, 2011.

The Federal Communications Commission will hold an Open Meeting on the subjects listed below on Thursday, March 3, 2011, in Room TW-C305, at 445 12th Street, SW., Washington, DC.

The Commission will hear Item Nos. 1 thru 3 in a morning session from 10 a.m. to 12 p.m. An afternoon session featuring Item Nos. 4 thru 7 will commence at 2 p.m.

Item No. | Bureau | Subject
1 | Media | Title: Policies to Promote Rural Radio Service and to Streamline Allotment and Assignment Procedures (MB Docket No. 09-52; RM-11528).
|  | Summary: The Commission will consider an Order to revise rules or establish waiver standards that will make it easier for Native Nations to provide radio service to areas that are the functional equivalent of Tribal Lands and to Tribal Lands that are small or irregularly shaped; and to adjust policies for determining whether proposed new radio stations or station moves constitute an equitable distribution of radio service under Section 307(b) of the Communications Act. A Further Notice seeks comment on adopting a Tribal eligibility requirement or a Tribal bidding credit to foster radio service by Native Nations on their lands.
2 | Wireless Telecommunications | Title: Improving Communications Services for Native Nations by Promoting Greater Utilization of Spectrum Over Tribal Lands.
|  | Summary: The Commission will consider a Notice of Proposed Rulemaking to explore a range of recommendations to help close the wireless gap on Tribal Lands.
3 | Consumer & Governmental Affairs | Title: Improving Communications Services for Native Nations.
|  | Summary: The Commission will consider a Notice of Inquiry that explores ways to overcome the barriers to deployment of communications services to Native Nations communities, and to improve consultation and coordination with Native Nations.
| * * * | Break * * *.
4 | Media | Title: Amendment of the Commission's Rules Related to Retransmission Consent (MB Docket No. 10-71).
|  | Summary: The Commission will consider a Notice of Proposed Rulemaking that seeks comment on changes to rules governing or affecting retransmission consent negotiations between broadcasters and multichannel video programming distributors.
5 | Wireline Competition | Title: Federal-State Joint Board on Universal Service (CC Docket No. 96-45); Lifeline and Link Up (WC Docket No. 03-109); Lifeline and Link Up Reform and Modernization.
|  | Summary: The Commission will consider a Notice of Proposed Rulemaking to reform and modernize the universal service Lifeline and Link Up programs by eliminating waste, fraud, and abuse; improving program administration, accountability, and fiscal responsibility; and updating the program in light of market and technology changes, including to support pilot programs for broadband adoption.
6 | Wireless Telecommunications and Consumer & Governmental Affairs | Title: Implementation of Sections 716 and 717 of the Communications Act of 1934, as Enacted by the Twenty-First Century Communications and Video Accessibility Act of 2010 (CG Docket No. 10-213); Amendments to the Commission's rules implementing Sections 255 and 251(a)(2) of the Communications Act of 1934, as Enacted by the Telecommunications Act of 1996 (WT Docket No. 96-198) and Accessible Mobile Phone Options for People who are Blind, Deaf-Blind, or Have Low Vision (CG Docket No. 10-145).
|  | Summary: The Commission will consider a Notice of Proposed Rulemaking that seeks comment on rules implementing provisions of the Twenty-First Century Communications and Video Accessibility Act of 2010 (CVAA). The NPRM proposes rules requiring providers of advanced communications services and manufacturers of equipment used for those services to make their products accessible to people with disabilities.
7 | Media | Title: Video Description: Implementation of the Twenty-First Century Communications and Video Accessibility Act of 2010.
|  | Summary: The Commission will consider a Notice of Proposed Rulemaking to reinstate the video description rules adopted by the Commission in 2000, as directed in the CVAA.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at http://www.fcc.gov/live.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Bulah P. Wheeler,
Deputy Manager, Office of the Secretary, Office of Managing Director.

[FR Doc. 2011-4701 Filed 2-28-11; 11:15 am]

BILLING CODE 6712-01-P